DEPARTMENT OF HOMELAND SECURITY

Federal Emergency Management Agency

44 CFR Part 65

[Docket No. FEMA-P-7644]

Changes in Flood Elevation Determinations

AGENCY: Federal Emergency Management Agency, Emergency Preparedness and Response Directorate, Department of Homeland Security.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Map(s) in effect prior to this determination for the listed communities.

From the date of the second publication of these changes in a newspaper of local circulation, any person has ninety (90) days in which to request through the community that the Mitigation Division Director of the Emergency Preparedness and Response Directorate reconsider the changes. The modified BFEs may be changed during the 90-day period.

ADDRESSES: The modified BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

The changes in BFEs are in accordance with 44 CFR 65.4.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and record keeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief Executive Officer of community | Effective date of modification | Community No.
Arkansas: Sebastian (Case No. 04-06-667P) | City of Fort Smith | March 22, 2005, March 29, 2005, Southwest Times Record | The Honorable C. Ray Baker, Jr., Mayor, City of Fort Smith, 4420 Victoria Drive, Fort Smith, AR 72904 | June 28, 2005 | 055013
Illinois: Cook (Case No. 03-05-3983P) | Village of Orland Park | March 17, 2005, March 24, 2005, Orland Park Star | The Honorable Daniel McLaughlin, Mayor, Village of Orland Park, 14700 South Ravinia Avenue, Orland Park, IL 60462 | February 28, 2005 | 170140
Illinois: Will (Case No. 04-05-3555P) | Village of Rockdale | February 21, 2005, February 28, 2005, The Herald News | The Honorable Henry Berry, President, Village of Rockdale, 603 Otis Avenue, Rockdale, IL 60436 | May 30, 2005 | 170710
Minnesota: Anoka (Case No. 04-05-3553P) | City of Andover | May 13, 2005, May 20, 2005, Anoka County Union | The Honorable Mike Gamache, Mayor, City of Andover, 1685 Crosstown Boulevard, NW, Andover, MN 55304 | August 19, 2005 | 270689
Minnesota: Dakota (Case No. 04-05-2890P) | Unincorporated Areas | March 3, 2005, March 10, 2005, Dakota County Tribune | Mr. Brandt Richardson, Administrator, Dakota County, Dakota County Administration Bldg., 1590 Highway 55, Hastings, MN 55033-2372 | June 9, 2005 | 270101
Minnesota: Washington and Dakota (Case No. 04-05-2890P) | City of Hastings | March 3, 2005, March 10, 2005, Dakota County Tribune | The Honorable Michael Werner, Mayor, City of Hastings, 100 East 4th Street, Hastings, MN 55033 | June 9, 2005 | 270105
Minnesota: Washington (Case No. 04-05-4071P) | City of Hugo | April 13, 2005, April 20, 2005, The White Bear Press | The Honorable Fran Miron, Mayor, City of Hugo, 15250 Homestead Avenue N, Hugo, MN 55038 | March 29, 2005 | 270504
Minnesota: Anoka (Case No. 04-05-3553P) | City of Oak Grove | May 13, 2005, May 20, 2005, Anoka County Union | The Honorable Oscar Olson, Mayor, City of Oak Grove, 22200 Poppy Street, NW, Anoka, MN 55303 | August 19, 2005 | 270031
Minnesota: Scott (Case No. 04-05-0763P) | City of Savage | May 14, 2005, May 21, 2005, The Savage Pacer | The Hon. Thomas M. Brennan, Mayor, City of Savage, 6000 McColl Drive, Savage, MN 55378-2464 | August 20, 2005 | 270433
Missouri: Cape Girardeau (Case No. 04-07-533P) | City of Cape Girardeau | March 22, 2005, March 29, 2005, Southeast Missourian | The Honorable Jay Knudtson, Mayor, City of Cape Girardeau, City Hall, 401 Independence Street, Cape Girardeau, MO 63705 | March 3, 2005 | 290458
Missouri: Cape Girardeau (Case No. 04-07-533P) | Unincorporated Areas | March 22, 2005, March 29, 2005, Southeast Missourian | Mr. Gerald Jones, Presiding Commissioner, Cape Girardeau County Commission, 1 Barton Square, Jackson, MO 63755 | April 4, 2005 | 290790
Missouri: St. Louis (Case No. 04-07-050P) | City of Ferguson | March 23, 2005, March 30, 2005, St. Louis Post Dispatch | The Honorable Steven Wegert, Mayor, City of Ferguson, 110 Church Street, Ferguson, MO 63135 | June 29, 2005 | 290351
Missouri: St. Louis (Case No. 04-07-050P) | Unincorporated Areas | March 23, 2005, March 30, 2005, St. Louis Post-Dispatch | Mr. Charlie A. Dooley, St. Louis County Executive, 41 South Central Avenue, Clayton, MO 63105 | June 29, 2005 | 290327
New Mexico: Bernalillo (Case No. 04-06-2142P) | Unincorporated Areas | April 20, 2005, April 27, 2005, The Albuquerque Journal | The Honorable Tom Rutherford, Commissioner, Bernalillo County, One Civic Plaza, N.W., Albuquerque, NM 87102 | July 27, 2005 | 350001
New Mexico: Dona Ana (Case No. 04-06-857P) | City of Las Cruces | May 4, 2005, May 11, 2005, Las Cruces Sun News | The Honorable William Mattiace, Mayor, City of Las Cruces, P.O. Box 20000, Las Cruces, NM 88004 | April 21, 2005 | 355332
Ohio: Lorain (Case No. 04-05-4063P) | Unincorporated Areas | April 6, 2005, April 13, 2005, The Morning Journal | The Honorable James R. Cordes, Lorain County Administrator, 226 Middle Avenue, Elyria, OH 44035 | July 13, 2005 | 390346
Oklahoma: Oklahoma (Case No. 04-06-1925P) | City of Oklahoma City | February 16, 2005, February 23, 2005, The Daily Oklahoman | The Honorable Mick Cornett, Mayor, City of Oklahoma City, 200 North Walker, 3rd Floor, Oklahoma City, OK 73102 | February 2, 2005 | 405378
Texas: Taylor and Jones (Case No 04-06-1912P) | City of Abilene | March 2, 2005, March 9, 2005, The Abilene Reporter-News | The Honorable Grady Barr, Mayor, City of Abilene, P.O. Box 60, Abilene, TX 79604 | February 8, 2005 | 485450
Texas: Collin (Case No. 04-06-573P) | City of Allen | March 3, 2005, March 10, 2005, The Allen American | The Honorable Steve Terrell, Mayor, City of Allen, 305 Century Parkway, Allen, TX 75013 | February 9, 2005 | 480131
Texas: Denton (Case No. 04-06-1465P) | Town of Bartonville | May 9, 2005, May 16, 2005, Denton Record Chronicle | The Honorable Ron Robertson, Mayor, Town of Bartonville, 1941 East Jeter Road, Bartonville, TX 76226 | April 22, 2005 | 481501
Texas: Dallas (Case No. 04-06-673P) | City of Dallas | May 5, 2005, May 12, 2005, Dallas Morning News | The Honorable Laura Miller, Mayor, City of Dallas, Dallas City Hall, 1500 Marilla Street, Room 5EN, Dallas, TX 75201-6390 | August 11, 2005 | 480171
Texas: Denton (Case No. 04-06-1465P) | Unincorporated Areas | May 9, 2005, May 16, 2005, Denton Record Chronicle | The Honorable Mary Horn, Judge, Denton County, 110 West Hickory Street, 2nd Floor, Denton, TX 76201 | April 22, 2005 | 480774
Texas: Fort Bend (Case No. 04-06-380P) | Unincorporated Areas | May 4, 2005, May 11, 2005, Fort Bend Star | The Honorable Robert E. Hebert, Judge, Fort Bend County, 301 Jackson Street, Richmond, TX 77469 | August 10, 2005 | 480228
Texas: Tarrant (Case No. 04-06-1206P) | City of Fort Worth | February 18, 2005, February 25, 2005, The Star Telegram | The Honorable Michael Moncrief, Mayor, City of Fort Worth, 1000 Throckmorton Street, Fort Worth, TX 76102-6311 | May 27, 2005 | 480596
Texas: Collin (Case No. 04-06-868P) | City of Frisco | February 25, 2005, March 4, 2005, The Frisco Enterprise | The Honorable Mike Simpson, Mayor, City of Frisco, 6891 Main Street, Frisco, TX 75034 | June 3, 2005 | 480134
Texas: Hays (Case No. 04-06-1456P) | Unincorporated Areas | April 14, 2005, April 21, 2005, San Marcos Daily Record | The Honorable Jim Powers, Judge, Hays County, 111 E. San Antonio Street, Suite 300, San Marcos, TX 78666 | March 31, 2005 | 480321
Texas: Ellis (Case No. 04-06-1901P) | City of Midlothian | March 30, 2005, April 6, 2005, The Midlothian Mirror | The Honorable David Setzer, Mayor, City of Midlothian, 104 West Avenue East, Midlothian, TX 76065 | March 15, 2005 | 480801
Texas: Comal and Guadalupe (Case No 04-06-1906P) | City of New Braunfels | February 23, 2005, March 2, 2005, New Braunfels Herald-Zeitung | The Honorable Adam Cork, Mayor, City of New Braunfels, P.O. Box 311747, New Braunfels, TX 78131-1747 | June 1, 2005 | 485493
Texas: Parker (Case No. 04-06-1004P) | Unincorporated Areas | February 16, 2005, February 23, 2005, The Weatherford Democrat | The Honorable Mark Riley, Parker County Judge, One Courthouse Square, Weatherford, TX 76086 | May 25, 2005 | 480520
Texas: Collin (Case No. 05-06-0150P) | City of Plano | March 23, 2005, March 30, 2005 The Plano Star Courier | The Honorable Pat Evans, Mayor, City of Plano, P.O. Box 860358, Plano, TX 75086-0358 | June 29, 2005 | 480140
Texas: Collin (Case No. 04-06-673P) | City of Plano | May 5, 2005, May 12, 2005, Plano Star Courier | The Honorable Pat Evans, Mayor, City of Plano, P.O. Box 860358, Plano, TX 75086 | August 11, 2005 | 480140
Texas: Bexar (Case No. 04-06-1738P) | City of San Antonio | May 24, 2005, May 31, 2005, San Antonio Express News | The Honorable Ed Garza, Mayor, City of San Antonio, P.O. Box 839966, San Antonio, TX 78283-3966 | August 30, 2005 | 480045
Texas: Parker (Case No. 04-06-1004P) | City of Weatherford | February 16, 2005, February 23, 2005, The Weatherford Democrat | The Honorable Joe M. Tison, Mayor, City of Weatherford, One Courthouse Square, Weatherford, TX 76086 | May 25, 2005 | 480522
Texas: Tarrant (Case No. 04-06-1206P) | Village of Westworth | February 18, 2005, February 25, 2005, The Star Telegram | The Honorable Andy Fontenot, Mayor, Village of Westworth Village, 311 Burton Hill Road, Fort Worth, TX 76114 | May 27, 2005 | 480616
Texas: Williamson (Case No. 04-06-1455P) | Unincorporated Areas | March 2, 2005, March 9, 2005, Williamson County Sun | The Honorable John C. Doerfler, Judge, Williamson County, 710 Main Street, Suite 201, Georgetown, TX 78626 | February 8, 2005 | 481079
Texas: Fort Bend (Case No. 04-06-380P) | Willow Fork Drainage District | May 4, 2005, May 11, 2005, The Katy Times | The Honorable Larry J. Mueller, Willow Fork Drainage District, c/o Allen, Boone & Humphries, LLP, 3200 Southwest Freeway, 26th Floor, Houston, TX 77027 | August 10, 2005 | 481603
Texas: Parker (Case No. 04-06-1004P) | City of Willow Park | February 16, 2005, February 23, 2005, The Weatherford Democrat | The Honorable James H. Poythress, Mayor, City of Willow Park, 101 Stagecoach Trail, Willow Park, TX 76087 | May 25, 2005 | 481164
Wisconsin: Fond du Lac (Case No. 04-05-4086P) | City of Fond du Lac | March 2, 2005, March 9, 2005, The Reporter | Mr. Tom W. Ahrens, City Manager, City of Fond du Lac, 160 South Macy Street, Fond du Lac, WI 54935 | June 8, 2005 | 550136
Wisconsin: Fond du Lac (Case No. 04-05-4086P) | Unincorporated Areas | March 2, 2005, March 9, 2005, The Reporter | Mr. Allen J. Buechel, Fond du Lac County Executive, 160 South Macy Street, Fond du Lac, WI 54935 | June 8, 2005 | 550131
Wisconsin: Manitowoc (Case No. 04-05-4084P) | Unincorporated Areas | March 2, 2005, March 9, 2005, Herald Times Reporter | The Honorable Dan Sicher, Manitowoc County Executive, Administrative Office Building, 1110 South 9th Street, Manitowoc, WI 54220 | June 8, 2005 | 550236

(Catalog of Federal Domestic Assistance No. 83.100, “Flood Insurance.”)

Dated: June 22, 2005.
David I. Maurstad,
Acting Director, Mitigation Division, Emergency Preparedness and Response Directorate.

[FR Doc. 05-12680 Filed 6-27-05; 8:45 am]

BILLING CODE 9110-12-P